PRESIDIO TRUST

Notice of Public Meeting

AGENCY: The Presidio Trust.

ACTION: Notice of public meeting.

SUMMARY: In accordance with § 103(c)(6) of the Presidio Trust Act, 16 U.S.C. 460bb note, Title I of Pub. L. 104-333, 110 Stat. 4097, as amended, and in accordance with the Presidio Trust's bylaws, notice is hereby given that a public meeting of the Presidio Trust Board of Directors will be held commencing 6:30 p.m. on Thursday, November 13, 2008, at the St. Mary's Conference Center, 1111 Gough Street, San Francisco, California. The Presidio Trust was created by Congress in 1996 to manage approximately eighty percent of the former U.S. Army base known as the Presidio, in San Francisco, California.

The purposes of this meeting are to provide an Executive Director's report, to receive public comment at a second public meeting of the Presidio Trust's Board of Directors on the Draft Presidio Trust Management Plan Main Post Update and Draft Supplemental Environmental Impact Statement, and to receive public comment on other matters in accordance with the Presidio Trust's Public Outreach Policy.

Individuals requiring special accommodation at this meeting, such as needing a sign language interpreter, should contact Mollie Matull at 415.561.5300 prior to November 6, 2008.

Time: The meeting will begin at 6:30 p.m. on Thursday, November 13, 2008.

ADDRESSES: The meeting will be held at the St. Mary's Conference Center, 1111 Gough Street, San Francisco, California.

FOR FURTHER INFORMATION CONTACT: Karen Cook, General Counsel, the Presidio Trust, 34 Graham Street, P.O. Box 29052, San Francisco, California 94129-0052, Telephone: 415.561.5300.

Dated: October 20, 2008.
Karen A. Cook,
General Counsel.

[FR Doc. E8-25492 Filed 10-24-08; 8:45 am]

BILLING CODE 4310-4R-P